FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 2, 2019.

A. Federal Reserve Bank of Minneapolis (Mark A. Rauzi, Vice President), 90 Hennepin Avenue, Minneapolis, Minnesota 55480-0291:

1. Terence Fennessy, Clancy, Montana, individually and as trustee of the First National Bancorp, Inc. Employee Stock Ownership Plan, Missoula, Montana (“ESOP”); to retain voting shares of First National Bancorp, Inc., Missoula, Montana (“FNBI”), and thereby retain shares of First Montana Bank, Inc., Missoula, Montana. Additionally, ESOP and its trustees Terence Fennessy, Clancy, Montana; and Noel Kulbeck, Missoula, Montana, as a group acting in concert, to retain voting shares of FNBI. Terence Fennessy (including IRA and control of ESOP shares); Terence Fennessy IRA, Clancy, Montana. Geraldine Fennessy, Libby, Montana; Tiina Fennessy, Clancy, Montana; Tiina Fennessy IRA, Clancy, Montana; Thomas Fennessy, Libby, Montana; Timothy Fennessy, Spokane, Washington; Teresa Kriskovich, Tracey, California; and Treva Marsden, Mead, Washington; as members of the Fennessy family shareholder group acting in concert; to retain voting shares of FNBI.

Board of Governors of the Federal Reserve System, April 12, 2019.
Yao-Chin Chao,
Assistant Secretary of the Board.

[FR Doc. 2019-07684 Filed 4-16-19; 8:45 am]

BILLING CODE P